FEDERAL ELECTION COMMISSION

11 CFR Part 114

[NOTICE 2003—18]

Rulemaking Petition: Payroll Deduction Contributions to a Trade Association's Separate Segregated Fund

AGENCY: Federal Election Commission.

ACTION: Rulemaking petition: notice of availability.

SUMMARY: On September 3, 2003, the Commission received a Petition for Rulemaking from America's Community Bankers (“ACB”), a trade association, and its separate segregated fund (“SSF”), COMPAC. The Petition urges the Commission to revise the rule prohibiting the use by member corporations of payroll deductions for contributions to a trade association's separate segregated fund. The Petition is available for inspection in the Commission's Public Records Office, through its Faxline service, and on its Web site, http://www.fec.gov.

DATES: Statements in support of or in opposition to the Petition must be submitted on or before November 24, 2003.

ADDRESSES: All comments should be addressed to Mr. John C. Vergelli, Acting Assistant General Counsel, and must be submitted in either electronic or written form. Electronic mail comments should be sent to payrollded03@fec.gov and must include the full name, electronic mail address, and postal service address of the commenter. Electronic mail comments that do not contain the full name, electronic mail address, and postal service address of the commenter will not be considered. If the electronic mail comments include an attachment, the attachment must be in the Adobe Acrobat (.pdf) or Microsoft Word (.doc) format. Faxed comments should be sent to (202) 219-3923, with printed copy follow-up to ensure legibility. Written comments and printed copies of faxed comments should be sent to the Federal Election Commission, 999 E Street, NW., Washington, DC 20463. Commenters are strongly encouraged to submit comments electronically to ensure timely receipt and consideration. The Commission will make every effort to have public comments posted on its web site within ten business days of the close of the comment period.

FOR FURTHER INFORMATION CONTACT: Mr. John C. Vergelli, Acting Assistant General Counsel, or Ms. Esa L. Sferra, Law Clerk, 999 E Street, NW., Washington, DC 20463, (202) 694-1650 or (800) 424-9530.

SUPPLEMENTARY INFORMATION: The Federal Election Commission (“Commission”) has received a Petition for Rulemaking from America's Community Bankers and its SSF. Petitioners ask that the Commission revise 11 CFR 114.8(e)(3) to permit, rather than prohibit, the use of payroll deductions for contributions to a trade association's separate segregated fund by a member corporation's executive and administrative personnel.

The Commission seeks comments on this issue. In particular, the Commission asks: Do the proposals by the petitioners represent permissible interpretations of the Federal Election Campaign Act, as amended, specifically 2 U.S.C. 441b? If so, which policy and factual considerations support, and which oppose, petitioners' proposal?

Copies of the Petition for Rulemaking are available for public inspection at the Commission's Public Records Office, 999 E Street, NW., Washington, DC 20463, Monday though Friday between the hours of 9 a.m. and 5 p.m., and on the Commission's Web site, http://www.fec.gov. Interested persons may also obtain a copy of the Petition by dialing the Commission's Faxline service at (202) 501-3413 and following its instructions, at any time of the day and week. Request document #255.

Consideration of the merits of the Petition will be deferred until the close of the comment period. If the Commission decides that the Petition has merit, it may begin a rulemaking proceeding. Any subsequent action taken by the Commission will be announced in the Federal Register.

Dated: October 17, 2003.
Michael E. Toner,
Commissioner, Federal Election Commission.

[FR Doc. 03-26749 Filed 10-23-03; 8:45 am]

BILLING CODE 6715-01-P